DEPARTMENT OF AGRICULTURE

Food Safety and Inspection Service

9 CFR Part 352

[Docket No. FSIS-2025-0011]

RIN 0583-AE00

Removal of Voluntary Ante-Mortem Inspection Regulations for Horses Vacated by Court

AGENCY: Food Safety and Inspection Service (FSIS), United States Department of Agriculture (USDA).

ACTION: Final rule.

SUMMARY: FSIS is amending the Federal meat inspection regulations to remove the regulation that established a voluntary fee-for-service program for ante-mortem inspection of horses. The U.S. District Court for the District of Columbia vacated the voluntary fee-for-service program on March 28, 2007. FSIS is removing the regulation to ensure the Agency's regulations accurately reflect current requirements.

DATES: This rule is effective April 21, 2025.

FOR FURTHER INFORMATION CONTACT: Denise Eblen, Acting Deputy Under Secretary for the Office of Food Safety, at (202) 205-0495 or docketclerk@usda.gov with a subject line of “Docket No. FSIS-2025-0011.” Individuals in the United States who are deaf, deafblind, hard of hearing, or have a speech disability may dial 711 (TTY, TDD, or TeleBraille) to access telecommunications relay services. Individuals outside the United States should use the relay services offered within their country to make international calls to the point-of-contact in the United States. For a summary of the DFR, please see the rule summary document in docket FSIS-2025-0011 on www.regulations.gov.

SUPPLEMENTARY INFORMATION: On February 8, 2006, FSIS published the interim final rule “Ante-Mortem Inspection of Horses” (71 FR 6337), which established a voluntary fee-for-service program allowing horse slaughter establishments to pay FSIS to conduct ante-mortem inspections. The program was established in response to the FY 2006 Agriculture, Rural Development, Food and Drug Administration, and Related Agencies Appropriations Act (Pub. L. 109-97), which prohibited the use of federal funds for ante-mortem inspections of horses. To continue operating, U.S. horse slaughter businesses petitioned FSIS to implement a program under the Agricultural Marketing Act (AMA) (7 U.S.C. 1622 and 1624) that would enable horse slaughter establishments to directly fund the required inspections.

Shortly after publication of the interim final rule, an animal protection organization sued the USDA, alleging that FSIS violated the National Environmental Policy Act (NEPA) (42 U.S.C. 4331, et seq.) by failing to conduct necessary environmental reviews before implementing the voluntary fee-for-service inspection program.¹ The animal protection organization argued that this omission rendered the program arbitrary and capricious under the Administrative Procedure Act (APA) (5 U.S.C. 706(2)).

¹ See Humane Society of the United States v. Johanns, 520 F. Supp. 2d 8 (D.D.C. 2007).

The U.S. District Court for the District of Columbia agreed with the animal protection organization, holding that FSIS' actions violated both NEPA and the APA. Consequently, the court vacated the interim final rule that established the fee-for-service program and permanently enjoined FSIS from implementing it. Therefore, FSIS is removing Subpart B—Horses under 9 CFR part 352 to ensure the Agency's regulations accurately reflect current requirements.

This rule is not subject to the APA requirement to publish a notice of proposed rulemaking and provide the public with the opportunity to comment before issuing a final rule because it falls under the good cause exception at 5 U.S.C. 553(b)(B). The good cause exception is satisfied when notice and comment is “impracticable, unnecessary, or contrary to the public interest” Id. This rule simply undertakes the ministerial task of implementing the court's order vacating the interim final rule.

List of Subjects in 9 CFR Part 352

Animals, Food labeling, Meat inspection, Reporting and recordkeeping requirements.

For the reasons discussed in the preamble, FSIS is amending 9 CFR part 352 of the Federal meat inspection regulations as follows:

PART 352—EXOTIC ANIMALS; VOLUNTARY INSPECTION

1. The heading of part 352 is revised to read as set forth above.

2. The authority citation for part 352 continues to read as follows:

Authority: 7 U.S.C. 1622, 1624; 7 CFR 2.17(g) and (i), 2.55.

Subpart B—Horses [Removed]

3. Remove subpart B, consisting of § 352.19.

Done in Washington, DC.
Denise Eblen,
Acting Deputy Under Secretary for the Office of Food Safety.

[FR Doc. 2025-06793 Filed 4-18-25; 8:45 am]

BILLING CODE 3410-DM-P